DEPARTMENT OF LABOR

Employment and Training Administration

[TA-W-57,207]

Storage Technology Corporation Brooklyn Park, MN; Notice of Termination of Investigation

Pursuant to Section 221 of the Trade Act of 1974, as amended, an investigation was initiated on May 18, 2005 in response to a petition filed by a State Workforce Representative on behalf of workers at Storage Technology Corporation, Brooklyn Park, Minnesota.

The petitioner has requested that the petition be withdrawn. Consequently, the investigation has been terminated.

Signed at Washington, DC this 14th day of June, 2005.
Elliott S. Kushner,
Certifying Officer, Division of Trade Adjustment Assistance.

[FR Doc. E5-3360 Filed 6-27-05; 8:45 am]

BILLING CODE 4510-30-P